DEPARTMENT OF STATE

[Public Notice 3298]

Culturally Significant Objects Imported for Exhibition Determinations: “Raphael and his Circle: Drawings from Windsor Castle”

AGENCY: Department of State.

ACTION: Notice.

SUMMARY: Notice is hereby given of the following determinations: Pursuant to the authority vested in me by the Act of October 19, 1965 (79 Stat. 985, 22 U.S.C. 2459), the Foreign Affairs Reform and Restructuring Act of 1998 (112 Stat. 2681, et seq.), Delegation of Authority No. 234 of October 1, 1999, and Delegation of Authority of October 19, 1999, I hereby determine that the objects to be included in the exhibition “Raphael and his Circle: Drawings from Windsor Castle,” imported from abroad for the temporary exhibition without profit within the United States, are of cultural significance. These objects are imported pursuant to loan agreements with foreign lenders. I also determine that the exhibition or display of the exhibit objects at the National Gallery of Art Washington, DC from May 14-July 23, 2000 and at the J. Paul Getty Museum, Los Angeles, CA from October 31-January 9, 2001 is in the national interest. Public Notice of these Determinations is ordered to be published in the Federal Register.

FOR FURTHER INFORMATION CONTACT: For further information, including a list of exhibit objects, contact Carol Epstein, Attorney-Adviser, Office of the Legal Adviser, U.S. Department of State (telephone: 202/619-6981). The address is U.S. Department of State, SA-44; 301-4th Street, S.W., Room 700, Washington, D.C. 20547-0001.

Dated: April 19, 2000.
William P. Kiehl,
Acting Assistant Secretary for Educational and Cultural Affairs, Department of State.

[FR Doc. 00-10508 Filed 4-26-00; 8:45 am]

BILLING CODE 4710-08-P